DEPARTMENT OF ENERGY

Agency Information Collection Extension

AGENCY: U.S. Department of Energy.

ACTION: Notice and Request for Comments.

SUMMARY: The Department of Energy (DOE), pursuant to the Paperwork Reduction Act of 1995, intends to extend for three years, an information collection request with the Office of Management and Budget (OMB). The information collection request, Historic Preservation for Energy Efficiency Programs, was initially approved on December 1, 2010 under OMB Control No. 1910-5155 and will expire on September 30, 2015. The extension will allow DOE to continue data collection on the status of Weatherization Assistance Program (WAP), State Energy Program (SEP) and Energy Efficiency and Conservation Block Grant (EECBG) Program activities to ensure compliance with Section 106 of the National Historic Preservation Act (NHPA). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before December 4, 2015. If you anticipate difficulty in submitting comments within that period, contact the person listed below as soon as possible.

ADDRESSES: Written comments may be sent to: Christine Platt Patrick, EE-2K, U.S. Department of Energy, 1000 Independence Ave. SW., Washington, DC 20585, Email: Christine.Platt@ee.doe.gov.

FOR FURTHER INFORMATION CONTACT: Christine Platt Patrick, EE-2K, U.S. Department of Energy, 1000 Independence Ave. SW., Washington, DC 20585, Email: Christine.Platt@ee.doe.gov.

Additional information and reporting guidance concerning the Historic Preservation reporting requirement for the WAP, SEP and EECBG Program are available for review at the following Web site: http://www1.eere.energy.gov/wip/historic_preservation.html.

SUPPLEMENTARY INFORMATION: This information collection request contains: (1) OMB No. 1910-5155; (2) Information Collection Request Title: Historic Preservation for Energy Efficiency Programs; (3) Type of Review: Extension; (4) Purpose: To collect data on the status of the WAP, SEP, and EECBG Program activities to ensure compliance with Section 106 of the NHPA; (5) Annual Estimated Number of Respondents: 2,473; (6) Annual Estimated Number of Total Responses: 2,473; (7) Annual Estimated Number of Burden Hours: 5,264; (8) Annual Estimated Reporting and Recordkeeping Cost Burden: 0.

Statutory Authority: (Pub. L. 89-665)

Issued in Washington, DC, on August 25, 2015.
Kathleen B. Hogan,
Deputy Assistant Secretary, Energy Efficiency and Renewable Energy.

[FR Doc. 2015-25225 Filed 10-2-15; 8:45 am]

BILLING CODE 6450-01-P